DEPARTMENT OF HEALTH AND HUMAN SERVICES

Centers for Disease Control and Prevention

Reorganization of the National Center for Health Statistics

AGENCY: Centers for Disease Control and Prevention (CDC), the Department of Health and Human Services (HHS).

ACTION: Notice.

SUMMARY: CDC has modified its structure. This notice announces the reorganization of the National Center for Health Statistics (NCHS).

DATES: This reorganization was approved by the Director of CDC on June 28, 2023.

FOR FURTHER INFORMATION CONTACT: D'Artonya Graham, Office of the Chief Operating Officer, Office of the Director, Centers for Disease Control and Prevention, 1600 Clifton Road NE, MS TW-2, Atlanta, GA 30329; Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the National Center for Health Statistics (NCHS), Office of Public Health Data, Surveillance, and Technology, Centers for Disease Control and Prevention. Specifically, the changes are as follows:

I. Under Part C, Section C-B, Organization and Functions, after the Office of Public Health Data, Surveillance, and Technology (CAK) insert the following:

• National Center for Health Statistics (CAKL)

• Office of the Director (CAKL1)

• Office of the Deputy Director for Management and Operations (CAKL12)

• Office of the Director (CAKL121)

• Office of Management and Operations (CAKL1212)

• Office of the Director (CAK12121)

• Operations and Logistics Staff (CAKL12121B)

• Workforce and Career Development Staff (CAKL12121C)

• Office of Policy, Budget, and Legislation (CAKL1213)

• Office of Information Services (CAKL1214)

• Office of the Director (CAKL12141)

• Information Dissemination Staff (CAK12141B)

• Information Design and Publishing Staff (CAKL1214C)

• Office of Informatics, Governance and Assurance (CAKL1215)

• Office of the Deputy Director for Programs (CAKL13)

• Office of the Director (CAKL131)

• Office of Science (CAKL1312)

• Division of Analysis and Epidemiology (CAKLB)

• Office of Director (CAKLB1)

• Health Promotion Statistics Branch (CAKLBB)

• Measures Research and Evaluation Branch (CAKLBC)

• Data Linkage Methodology and Analysis Branch (CAKLBD)

• Population Health Reporting and Dissemination Branch (CAKLBE)

• Division of Vital Statistics (CAKLC)

• Office of Director (CAKLC1)

• Data Acquisition and Evaluation Branch (CAKLCB)

• Partner Engagement and Data Dissemination Branch (CAKLCC)

• Statistical Analysis and Surveillance Branch (CAKLCD)

• Information Technology Branch (CAKLCE)

• Division of Health Care Statistics (CAKLD)

• Office of the Director (CAKLD1)

• Data Analytics and Production Branch (CAKLDB)

• Planning and Operations Branch (CAKLDC)

• Technical Services Branch (CAKLDD)

• Division of Health Interview Statistics (CAKLE)

• Office of the Director (CAKLE1)

• Data Production and Systems Branch (CAKLEB)

• Survey Planning and Special Surveys Branch (CAKLEC)

• Data Analysis and Quality Assurance Branch (CAKLED)

• Division of Health and Nutrition Examination Surveys (CAKLG)

• Office of the Director (CAKLG1)

• Analysis Branch (CAKLGB)

• Informatics Branch (CAKLGC)

• Operations Branch (CAKLGD)

• Planning Branch (CAKLDE)

• Division of Research and Methodology (CAKLH)

• Office of the Director (CAKLH1)

• Collaborating Center for Statistical Research and Survey Design (CAKLHB)

• Collaborating Center for Questionnaire Design and Evaluation Research (CAKLHC)

• Research Data Center (CAKLHD)

II. Under Part C, Section C-B, Organization and Functions, delete the mission or functional statements for and replace with the following:

National Center for Health Statistics (CAKL). (1) provides national leadership in health statistics and epidemiology; (2) collects, analyzes, and disseminates national health statistics on vital events and health activities, including the physical, mental, and physiological characteristics of the population, illness, injury, impairment, the supply and utilization of health facilities and manpower, the operation of the health services system: health costs and expenditures, changes in the health status of people, and environmental, social, and other health hazards; (3) administers the Cooperative Health Statistics System; (4) stimulates and conducts basic and applied research in health data systems and statistical methodology; (5) coordinates to the maximum extent feasible, the overall health statistical and epidemiological activities of the program and agencies of the HHS and provides technical assistance in the planning, management, and evaluation of HHS statistical programs; (6) maintains operational liaison with statistical units of other health agencies, public and private, and provides technical assistance within the limitations of staff resources; (7) fosters research, consultation, and training programs in international statistical activities; (8) participates in the development of national health statistics policy with other Federal agencies; (9) directs the environmental and epidemiological statistics programs of the NCHS; and (10) provides the Secretary, HHS with consultation and advice on statistical matters in its role as the Government's principal general-purpose health statistics organization as designated by the Office of Management and Budget (OMB).

Office of the Director (CAKL1). The Office of the Director (OD), NCHS, directs, administers, and coordinates scientific and administrative operations. For NCHS, the OD (1) plans, manages, and evaluates the total vital, health, and health statistics programs; (2) provides programmatic oversight of allocated resources, administrative services, and human capital; (3) defines and provides guidance on goals and objectives for vital and health statistics program policies, strategic planning and overall implementation; (4) guides cross-cutting functions including strategic planning, budget strategy, external affairs, and performance; (5) ensures the integrity, regulatory compliance and quality of all health statistics programs; (6) stimulates basic and applied research and developmental activities; (7) directs environmental and epidemiological statistics program activities; (8) provides national and international leadership in vital and health statistics programs and activities; (9) releases and disseminates all NCHS statistical products and related activities (10) provides assistance to government agencies in order to foster international relationships, and improve the broad fields of vital and health statistics, and epidemiology; (11) coordinates activities with public and private health statistics agencies; (12) coordinates NCHS activities on classification of diseases and procedures with the responsibility for development of revision proposals and the United States' position on decennial revisions of the International Classification of Diseases; (13) overseas NCHS research programs in areas of public health data modernization and analytical infrastructure including cutting edge advances in technologies and products; (14) develops new data-science related initiatives in areas of architected and productionized machine learning models for classification, regression, outlier detection, and language modeling in support of large complex statistical surveys; (15) provides support for CDC and HHS' Equal Employment Opportunity program; (16) provides executive-level leadership and guidance on Center-wide data resources and information technology management in support of scientific and program information and the research and development efforts on new information technologies, architectures, and systems; (17) provides executive-level leadership and guidance on data science (analytics and modernization) for large, complex surveys as well as research and development efforts to identify, analyze, visualize, and report on emerging public health data; and (18) releases and disseminates all NCHS statistical products and related activities in a manner consistent with OMB Federal Statistical Agency Director No. 4.

Division of Vital Statistics (CAKLC). The Division of Vital Statistics (DVS) plans and administers NCHS' complex data collection systems and conducts a program of methodologic and substantive public health research activities based on the nationwide collection of data from vital records. For NCHS, DVS (1) directs, plans, and coordinates the vital statistics program of the United States including the vital statistics cooperative program, the National Death Index (NDI), and standards for data collection including electronic systems, data reduction, and tabulation; (2) conducts various types of vital statistics related research including enhancing the ICD by determining cross-national comparability of causes of death in order to provide appropriate recommendations to the World Health Organization (WHO); research on data collection methodology, data quality, reliability, and statistical computation; development of new scientific knowledge on the demographics of natality and mortality; and developing tools for evaluation, utilization, and presentation of vital statistics data and medical classification; (3) interprets, classifies, and compiles complex demographic, economic, health, and medical data; (4) performs theoretical and experimental investigations into the content of the vital statistics data collection effort including developing sophisticated approaches to making vital statistics data available to users, assessing the security of DVS IT systems and data files, and developing and implementing strategies to minimize security risks and avoiding disclosure of confidential data; (5) conducts descriptive analyses and sophisticated multivariate analyses that integrate vital statistics data across multiple data sets; (6) provides technical assistance and consultation to international, state, and local offices with vital registration responsibilities on vital registration, vital statistics, and data processing; (7) researches, designs, develops, and implements state-of-the-art computing systems for collecting, storing, and retrieving vital records and for subsequent analysis and dissemination; (8) produces and publishes a wide variety of vital statistics analytic reports and tabulations in multiple formats; and (9) participates in the development of policy, long-range plans, and programs of the for NCHS; develops and sustains collaborative partnerships within NCHS, CDC, HHS, and externally with public, private, domestic and international entities on vital statistics programs; and is the United States representative for ICD for mortality data and the classification and coding of cause of death.

Office of the Director (CAKLC1). The Office of the Director (1) participates in the development of policy, long-range plans, and programs of NCHS; (2) provides leadership for the monitoring and statistical evaluation of national vital statistics; (3) directs, plans, and coordinates the statistical and research activities of the Division; (4) develops policy for the NDI program; (5) plans and conducts programs to improve the vital registration and statistics program for the United States; (6) conducts studies of new vital registration techniques; (7) recommends content and format of model legislation, regulations, standard certificates, and other aids to registration systems; (8) provides international leadership and consultation on vital registration and statistics issues to other countries; and (9) establishes collaborative partnerships within NCHS, CDC, HHS, and externally with public, private, domestic and international entities on vital statistics programs.

Data Acquisition, Classification, and Evaluation Branch (CAKLCB). The Branch (1) provides policy direction to states regarding vital statistics data acquisition and quality control including promoting state participation in the vital statistics cooperative program and the NDI program; (2) manages the acquisition of vital statistics data from the 57 registration areas to assure a national file of timely and complete data; (3) develops specifications for coding, editing and processing of vital registration, and statistics data; (4) develops and administers funding formulas that determine the level of reimbursement to states and the procurement mechanisms to effect this reimbursement; (5) develops and directs a comprehensive statistical quality assurance program throughout the U.S. vital statistics system including best statistical practices to maximize the utility of vital statistics data and to assure that the data received from each registration area are acceptable for national use; (6) provides technical assistance to states, local areas, other countries, and private organizations on data files, software, training, processing, and coding of vital statistics data; (7) conducts evaluation studies and other research on issues related to the collection of vital statistics data in consultation with various U.S. health departments; (8) prepares and publishes information obtained from special projects conducted on vital registration and statistics data; (9) conducts methodological research in data preparation and medical classification of mortality data; (10) directs a comprehensive program of technical assistance and consultation related to mortality medical data classification to states, local areas, other countries, and private organizations; and (11) interprets, classifies, codes, keys, and verifies medical and demographic information of value to researchers and public policy officials.

Information Technology Branch (CAKLCE). The Branch (1) conducts research into the design, development, and administration of vital statistics information technology systems; (2) performs systems analysis and computer programming of vital registration data; (3) develops technologies, data architectures, security infrastructure, and database management related to vital records and record linkage consistent with NCHS, CDC, and HHS information technology requirements, policies and architecture; (4) develops, maintains, and employs state-of-the-art information technologies (e.g., relational databases, Web-enabled applications, applications development and dissemination activities) associated with vital statistics; (5) develops and maintains systems and databases to support the NDI program; (6) provides consultation and expert technical assistance to the division concerning SQL server, web services, networking applications, and other technologies that may arise; (7) prepares and maintains population databases as well as conducts studies on statistical computation and data quality; (8) designs and implements information technology applications to produce final edited and imputed vital statistics data; (9) provides consultation, policy guidance, and expert technical assistance NCHS-wide as well as to a broad range of agencies, institutions, Federal, local, and international governments, researchers, and individuals, in regard to vital statistics systems design, administration, and usage; (10) manages national vital statistics data files and databases; (11) develops, enhances, and maintains medical classification software and procedures for collecting and processing of mortality medical data in states and at NCHS following HHS Enterprise Life Cycle Framework; and (12) tests, refines, and updates automated coding systems that assist in the production of mortality data.

Division of Health Care Statistics (CAKLD). The Division of Healthcare Statistics (DHCS) plans and administers NCHS' complex data collection systems and analytic programs and conducts a program of methodologic and substantive public health research activities on the healthcare system and the use of healthcare services. For NCHS, DHCS (1) participates in the development of policy, long-range plans, and programs; (2) plans, directs, and coordinates NCHS' healthcare statistics program; (3) develops standards for healthcare statistics data collection, data reduction, and tabulation; (4) conducts research on data collection methodology, survey methodology, data quality and reliability, statistical computation, and utilization of healthcare statistics data; (5) conducts multidisciplinary research directed towards the development of new scientific knowledge on the provision, use, quality, and appropriateness of ambulatory, hospital, and long-term care including interactions within the healthcare delivery system, and the effects of the system and its financing on services provided; (6) performs theoretical, experimental, and evaluative investigations into the content of the healthcare statistics data collection effort; (7) develops sophisticated approaches for making healthcare statistics data available to users, including techniques to avoid disclosure of confidential data; (8) conducts descriptive analyses and sophisticated multivariate analyses that integrate healthcare statistics across multiple surveys or data sets; (9) designs, develops, and implements state of the art computing systems for collecting, storing, and retrieving healthcare statistics data for subsequent analysis and dissemination; (10) provides technical assistance, consultation, and liaison to international, Federal, state, and local government agencies, as well as the private sector, on statistics describing healthcare resources and utilization and future data needs of particular relevance for public health, health services research, and health policy; (11) fosters the integration of healthcare data systems as well as greater linkages of data for analytic purposes; (12) analyzes and produces and publishes a wide variety of healthcare statistics reports and tabulations in multiple formats; and (13) develops and sustains collaborative partnerships within NCHS, CDC, and HHS, and externally with public, private, domestic, and international entities on healthcare statistics programs.

Office of the Director (CAKLD1). The Office of the Director (1) participates in the development of policy, long-range plans, and programs for NCHS; (2) provides leadership for the development, conduct, and evaluation of national healthcare surveys and statistics; (3) directs, plans, and coordinates the statistical and research activities of the division; (4) develops and administers a research and analytic program to characterize the healthcare delivery system and patients and providers interacting within it; (5) coordinates activities within the division and with other NCHS components aimed at obtaining and using healthcare data from other Federal, state, and local government agencies, as well as from non-government sources; and (6) provides advice and leads development of collaborative partnerships within NCHS, CDC, and HHS, and externally with public, private, domestic and international entities on healthcare statistics and the manner in which statistics may impact policy issues.

Technical Services Branch (CAKLDD). The Branch (1) conducts research into the design, development, and administration of healthcare statistics information technology systems; (2) performs systems analysis and computer programming (e.g., edits, imputations, disclosure risk analysis, and statistical weighting) of healthcare statistics data; (3) develops and implements computer technologies, data architectures, security infrastructure, and database management for division programs consistent with NCHS and CDC information technology requirements; (4) develops, maintains, and employs state-of-the-art information technologies (e.g., cloud computing, data lakes, data warehouses, relational databases, web-based applications, data transport mechanisms, applications development tools) in support of data collection, processing, maintenance, analysis, and dissemination activities associated with national healthcare surveys; (5) advises division staff regarding resources for web portals, cloud computing applications, and emerging applications; (6) prepares and maintains databases and file libraries, as well as conducts studies of statistical computation and data quality; (7) produces a wide variety of data products in multiple formats; (8) develops quality control measures; and (9) provides consultation, policy guidance, and expert technical assistance NCHS-wide as well as to a broad range of agencies, institutions, Federal, local, and international governments, researchers, and individuals, in regard to healthcare survey and computer systems design and usage.

Division of Health Interview Statistics (CAKLE). The Division of Health Interview Statistics (DHIS) plans and administers NCHS' complex data collection systems and analytic programs and conducts a program of methodologic and substantive public health research activities based on the collection of data from nationwide and special health interview surveys. For NCHS, DHIS (1) participates in the development of policy, long-range plans, and programs; (2) plans, directs, and coordinates the health interview statistics program comprised of national health interview surveys, longitudinal surveys, population-based online panel surveys, targeted follow-up studies, and national and subnational surveys on selected health topics; (3) conducts research on data collection and estimation methodology, survey methodology, questionnaire design, data quality and reliability, and statistical computation related to health and health status assessment; (4) analyzes data and publishes reports on the prevalence and incidence of disease and associated disabilities, health status and fertility, health-related behaviors, utilization of healthcare resources, health insurance status, family formation and dissolution, and other health and well-being related topics; (5) conducts multidisciplinary research directed toward development of new scientific knowledge in areas related to health and healthcare, demography, economics, epidemiology, statistics, and disability; (6) performs innovative theoretical and experimental investigations of the content of health interview surveys using sophisticated approaches to making health interview statistics data available to users, including techniques to avoid disclosure of confidential data; (7) conducts descriptive analyses and sophisticated multivariate analyses that integrate data across multiple surveys or data sets; (8) designs, develops, and implements state-of-the-art computing systems for collecting, storing, and retrieving health interview statistics data and for subsequent analysis and dissemination which are consistent with NCHS and CDC information technology requirements; (9) incorporates novel system improvement efforts to maintain timeliness, efficiency, cost effectiveness, and accuracy of data systems over multiple years; (10) conducts methodological research on the utilization, evaluation, and presentation of health interview statistics; (11) produces and publishes a wide variety of health interview statistics reports, papers, and tabulations in multiple formats as well as makes presentations on analyses of such data; and (12) develops and sustains collaborative partnerships with, and provides expert advice and technical assistance to NCHS, CDC, and HHS and externally with public, private, domestic and international entities on issues regarding health interview statistics data.

Office of the Director (CAKLE1). The Office of the Director (1) participates in the development of policy, long-range plans, and programs of NCHS; (2) provides leadership for the design, development, conduct, and statistical evaluation of the division's data systems; (3) oversees the analysis and dissemination of national and subnational health interview statistics through national health interview surveys, national surveys of family formation, growth, and dissolution, and special surveys of subnational and demographic subgroups; (4) coordinates the planning and production activities of the division including data collection, information technology, and data dissemination systems; (5) directs, plans, and monitors the scientific integrity and relevance to public health of the division's data, publications, services, and other products; (6) develops and administers a research, analytic, and methodological program in health interview statistics; (7) conducts theoretical and experimental research to improve the usefulness of the division's statistics and data to policymakers, researchers, and academia; and (8) provides advice and leads development of collaborative partnerships within NCHS, CDC, and HHS, and externally with public, private, domestic and international entities on issues regarding health interview statistics and the manner in which statistics may impact policy issues.

Data Production and Systems Branch (CAKLEB). The Branch (1) conducts research into the design, development, deployment, and administration of survey and information technology systems to collect, process, and disseminate national health interview survey data; (2) develops system improvement plans and strategies to ensure timely, cost-effective, accurate, and confidential data collection and production systems; (3) performs systems analysis and computer programming of health interview statistics data, employing state-of-the-art information technologies in support of data collection, processing, maintenance, analysis, and dissemination activities; (4) develops and adopts computer technologies, data architectures, security infrastructure, and database management for health interview statistics systems that are consistent with NCHS and CDC information technology requirements; (5) develops and implements data collection and production standards for the Division's surveys; (6) provides planning for the utilization of evolving computing, networking, data storage, and data protection technologies in division survey efforts including studies and analyses of data collection, processing, and dissemination systems to ensure data confidentiality; (7) designs and implements computer applications to produce final edited and imputed health interview survey data and statistics producing health statistics reports and tabulations of data from health interview surveys in multiple formats; and (8) provides consultation and expert technical assistance NCHS-wide as well as to a broad range of agencies, institutions, Federal, local, and international governments, researchers, and individuals regarding systems design and administration on health interview statistics technology systems.

Survey Planning and Special Surveys Branch (CAKLEC). The Branch (1) establishes the design and content of national health interview surveys and special surveys of subnational and demographic subgroups in response to public health priorities; (2) converts identified data needs into research, development, and evaluation activities and related public health information; (3) designs and conducts methodological, analytical, developmental, and evaluation studies of health interview survey processes, questions, and data; (4) performs theoretical and experimental research on the design and content of health interview surveys in order to improve the timeliness, availability, and quality of the health interview statistics data; (5) plans and conducts national surveys of family formation, growth, and dissolution; (6) publishes and presents results of methodological, analytical, developmental, and evaluation studies of special population surveys and data; (7) collaborates with other programs and through contracts, grants, and interagency agreements with outside sponsors of surveys for the development and implementation of survey questions and data including serving as the NCHS resource on special population surveys data and their use in addressing critical public health issues; and (8) provides consultation and technical assistance to a wide range of researchers and institutions at the state, national, and international levels, addressing the definitions, needs, and uses for national and subnational health interview statistics and data.

Data Analysis and Quality Assurance Branch (CAKLED). The Branch (1) conducts research, analysis, interpretations, and recommendations on topics relevant to public health including scientific papers and presentations on the health status of the population, broad health trends, and characteristics of persons with health problems using data from national health interview surveys; (2) plans, develops, and implements analytic techniques and guidelines to assure data quality standards for the division surveys and supplements; (3) converts identified health interview statistics data needs into research, development, and evaluation activities; (4) conducts descriptive analyses as well as multivariate analyses that integrate data across multiple surveys or data sets; (5) administers analytic and scientific peer review of manuscripts produced from data collected in the division's programs; (6) develops and implements a data dissemination plan to address needs of researchers; (7) serves as the resource on health interview survey data and their use in assessing the prevalence and incidence of disease and associated disabilities, health status and fertility, health related behaviors, health insurance status, family formation and dissolution, and other health and well-being related topics; and (8) provides consultation, technical assistance, and liaison to academia, other research groups, and state, Federal, and international entities concerning the development, uses, and dissemination of health interview survey data.

III. Under Part C, Section C-B, Organization and Functions, add the following functional statements:

Office of the Deputy Director for Management and Operations (CAKL12). The Office of the Deputy Director for Management and Operations (ODDMO) is a vital member of the NCHS senior staff providing executive-level leadership, guidance, and support for all operational, administrative, technical, dissemination, policy, legislative, and budget-related functions. For NCHS, the ODDMO provides leadership, guidance, and coordination for NCHS in areas of: (1) operational and administrative related programs; (2) policy development, budgetary activities, and implementation; (3) legislative activities; (4) information services production and dissemination; and (5) information technology planning, procedures, and training.

Office of the Director (CAKL121). (1) provides functional oversight and management of operational-related activities regarding programmatic direction for planning and administration of allocated resources, human resource management, and general administrative support; (2) interprets and guides on existing policies and development of new internal policies and procedures to assure statutory compliance for all management and operational areas; (3) assesses the efficiency and responsiveness of administrative and operational activities; (4) provides programmatic oversight of planning, formulation, and execution of allocated budgeted resources; (5) provides oversight of legislative activities; (6) supports the functional needs of NCHS' Federal Advisory Committees (FACA); (7) supports the health statistics information dissemination and production activities; (8) monitors investments, and evaluates information technology requirements, resources, and infrastructure; and (9) provides for the protection of assets through information technology risk management and security.

Office of Management and Operations (CAKL1212). The Office of Management and Operations (OMO) participates in the development of NCHS policy, long-range plans, and programs. For NCHS, OMO (1) plans, coordinates, directs, and provides advice and guidance on management and administrative operations including human capital, employee development, time and attendance, domestic and international travel, conference approval, records management, diversity initiatives, information management, facilities support, accountable property, mail distribution, ethics, and other administrative related services; (2) reviews the effectiveness and efficiency of operational support provided to all programs; (3) conducts management and organizational analyses as well as consultation and advice on organizational structure and program reorganizations; (4) plans, directs, and coordinates building support services and work-life activities; (5) serves as liaison with various CDC Centers, Institute, and Offices (CIOs) including the CDC Management Board and Management Operations Team, and (6) provides oversight of budget expenditures and distribution.

Office of the Director (CAKL12121). (1) participates in the planning, policy development, and oversight of all administrative and operational functions including human capital, travel, records and information management, facilities, accountable property, diversity initiatives, sustainability, and transportation; (2) coordinates and manages the day-to-day oversight of budget expenditures and distribution; (3) provides NCHS budget-related functions, financial data analysis, and reporting; (4) directs and manages the execution of the budget, including a system of budgetary and expenditure controls, financial reports, and assistance to staff; (5) provides planning, operational review and administrative coordination for NCHS regarding the Interagency Agreement process; (6) provides financial related information in support of short- and long-range statistical program planning and budgeting; (7) provides oversight, guidance, and coordination of acquisition and purchase activities; (8) manages and coordinates requirements related to contracts, grants, cooperative agreements, interagency agreements, and reimbursable agreements; (9) assures compliance with all laws, regulations, policies, and decisions related to financial execution and planning; (10) serves as liaison, and works closely with CDC's Office of Financial Resources on financial and contractual related matters; (11) responds to reporting requirements from CDC, HHS, and OMB; (12) provides short and long range budget planning data, policy development information, and program analysis; (13) assists in the review of Congressional bill language to identify and properly account for earmarks and other directed programs; and (14) coordinates the full range of complex service contracting functions including acquisition strategy, acquisition planning, procurement package input and validation.

Operations and Logistics Staff (CAKL12121B). The Staff (1) coordinates all activities related to personnel security and physical security operations; (2) plans and manages the Continuity of Operations Plan; (3) facilitates the development, issuance, implementation, and maintenance of administrative internal controls, policies, standard operating procedures, delegations of authority, and forms; (4) oversees the records management program; (5) manages the conference clearance and approval process for staff; (6) provides administrative management services to all offices and divisions; (7) plans, directs, and coordinates facilities support including managing facility operations, building maintenance and custodial services, monitoring lease provisions, facility improvements, parking, and logistics support for special events (on-site conferences, meetings, seminars, ceremonies); (8) evaluates administrative data, processes, and procedures to determine the effectiveness of administrative and business services policies and support to all divisions and offices; (9) manages the lifecycle and accountability of all government property; (10) manages the sustainability program to promote environmental, conservation, and recycling stewardship in the workplace; (11) provides mail receipt and distribution, and copying services; (12) coordinates and manages the government vehicle program and transportation incentive program; (13) manages and coordinates the domestic and international travel programs; and (14) manages administrative communications via email announcements, intranet, and electronic boards.

Workforce and Career Development Staff (CAKL12121C). The Staff (1) manages human capital activities with the goal of improving organizational effectiveness, employee morale, motivation, and productivity; (2) develops and implements internal administrative human capital-related policies and procedures as appropriate; (3) maintains liaison with related staff offices and other CDC officials; (4) coordinates and manages the incentive and honor awards programs including planning and coordinating the annual NCHS Director's Awards Ceremony; (5) coordinates and manages the performance appraisal system in accordance with Office of Personnel Management, HHS, and CDC policies, procedures and regulations; (6) coordinates the processing of personnel actions and activities in the areas of recruitment, staffing and retention of staff; (7) provides advice and guidance on strategies and tools available to effectively recruit, and plan for succession of staff, and retention of knowledges and skills; (8) directs organizational development activities that focus on skill assessment, career counseling, training administration, workforce planning and conflict management; (9) provides advice, guidance and assistance on the establishment or modification of position development, organizational structure and functional assignments; (10) coordinates the administration of the fellowship and intern program; (11) serves as the diversity champion and oversees the implementation of diversity initiatives; (12) coordinates and manages telework programs; (13) manages the new employee orientation process; (14) serves as liaison with the CDC Office of Human Resources and NCHS supervisors on employee and labor relations activities; (15) coordinates and provides advice and guidance on a variety of administrative functions related to pay and leave administration; (16) coordinates all activities related to staff requirements for the CDC Ethics Program; and (17) serves as the liaison with the Office of Commissioned Corps Personnel for NCHS Commissioned Officers.

Office of Policy, Budget, and Legislation (CAKL1213). The Office of Policy, Budget, and Legislation (OPBL) leads NCHS policy development, fiscal direction, and legislative activities. For NCHS, OPBL (1) leads policy development activities, advises on strategic and policy direction for short- and long-range statistical programs, and program analysis; (2) serves as focal point for policy and program activities including planning and development of new programs, communication on program and policy issues, integration of program activities, and organizing teams for high priority initiatives; (3) assists the NCHS Director in the assessment of program accomplishments and planning development through a program review process; (4) serves as principal advisor on resource development and budget formulation and programmatic oversight of allocated resources; (5) provides leadership for the direction and improvement of fiscal policies; (6) develops and coordinates legislative activities while serving as the principal liaison between programs and executive and legislative branch officials on legislative-related affairs; (7) provides representation for high-level internal and external policy, issues management, and partnership activities and groups; (8) maintains regular and proactive two-way communications with the CDC and HHS policy community and uses the results to contribute to problem solving; (9) partners with Federal agencies and private organizations to promote and support the NCHS mission; (10) promotes the dissemination, adoption and use of public health data standards, including developing and documenting comprehensive policy analyses, contributes to special reports and newsletters, provides planning, operational review, engagement and coordination with Federal Interagency Forums and related activities; (11) provides scientific, technical support and Executive Secretariat services to the National Committee on Vital and Health Statistics (NCVHS); (12) takes a leadership role in assuring representation on intra- and interagency task forces and committees including NCVHS, NCHS' Board of Scientific Counselors, and other FACA committees; (13) fosters communication between programs and serves as principle liaison with clearance officials in CDC, HHS, and OMB; (14) assures that NCHS' legislative mandates are reflected in confidentiality and privacy policies; (15) provides policy guidance on data sharing and data release agreements in consultation with the NCHS -Office of Science (OS); and (16) supports OS in reviewing and responding to Freedom of Information Act (FOIA) requests that include policy implications.

Office of Information Services (CAKL1214). The Office of Information Services (OIS) plans and administers complex information services production and dissemination systems for promoting access to, use, and value of NCHS health statistics data to government officials, health organizations, researchers, and academia. For NCHS, OIS (1) plans, directs, coordinates and evaluates the information services program of the Center; (2) develops standards for information services production and dissemination; (3) conducts a technologically enhanced information services program utilizing state-of-the-art advancements in internet and external web-based products and services; (4) coordinates information services with other NCHS divisions and programs to meet Center goals effectively; (5) conducts research to improve methods and operations of information production and dissemination programs, emphasizing web-based services; (6) designs, develops, and implements state-of-the-art systems for information production and dissemination, emphasizing web-based systems; (7) provides technical assistance, consultation, and liaison to NCHS, CDC, HHS, and outside private, domestic, and international organizations on information services programs and services which improve the access to, use, and availability of health statistics data for analysis; (8) promotes the integration of health statistics data information systems; and (9) develops and sustains collaborative partnerships within NCHS, CDC, HHS, and externally with public, private, domestic, and international entities on health information services programs.

Office of the Director (CAKL12141). (1) provides leadership for the development, conduct, and evaluation of the National Health Statistics Information Services Program; (2) directs, plans, and coordinates the health information dissemination and information production activities of the division; (3) develops and administers a research and analytic program to improve the delivery of information services to constituents; (4) determines the most effective mix to provide the Center cost-effective and timely information dissemination, publications, and Internet/Extranet services using in-house and contractor-based resources; (5) provides technical assistance regarding data and information dissemination, publications and internet services to Federal, state, local, public, and private organizations; and (6) leads development of collaborative partnerships within NCHS, CDC, and HHS and externally with public, private, domestic, and international entities on health information services and the manner in which health statistics data may be accessed by users.

Information Dissemination Staff (CAKL12141B). The staff (1) plans, directs, and coordinates the NCHS health statistics information dissemination program; (2) designs, develops, and implements systems to disseminate and promote the use of NCHS data and information products; (3) manages a broad program of electronic dissemination activities using cutting-edge tools such as the internet, extranet, CD-ROM, and other media; (4) develops and promotes the dissemination of a wide range of other information materials, including brochures, fact sheets, and exhibits to reach general and specialized audiences; (5) develops standards and policies for formatting and organizing electronic data and information products including micro-data, Listserv, publications, web-only data releases, fact sheets and other dissemination tools; (6) coordinates with NCHS programs to identify, develop, produce, disseminate and market a range of printed and electronic information materials designed to meet user needs; (7) develops and sustains relationships with Federal, state, and local agencies, the scientific and research community, libraries, and national and international health organizations which foster access to and use of NCHS statistical information services; (8) operates a public inquiries program to respond to data and information requests; (9) provides technical assistance to users in acquiring and using NCHS data and information products; (10) conducts and participates in conferences, seminars, workshops, and exhibits to present the information and data of NCHS; (11) evaluates the presentation and dissemination of NCHS information; (12) conducts user surveys to determine user's needs and translates these needs into NCHS product development and dissemination plans; (13) researches, evaluates, develops, and implements improved methods of information dissemination; (14) manages the inventory and storage of NCHS information products; and (15) keeps abreast of Federal information dissemination policies and programs.

Information Design and Publishing Staff (CAK12141C). The Staff (1) plans, directs, and conducts the NCHS information publishing program; (2) develops, recommends, and implements policies and standards for electronic and printed publishing at NCHS; (3) provides consultation and technical assistance to NCHS programs regarding publication policies, operational procedures, presentation techniques, and graphic services; (4) interprets and applies CDC standards and provides input to CDC officials regarding issues unique to the design and production of NCHS electronic and printed materials; (5) researches and adopts emerging technology to improve timeliness, cost-savings, and quality of electronic and printed products; (6) directs, coordinates, and provides liaison between NCHS and other agencies on joint information design and publishing projects; (7) provides design and production support for all NCHS published products, including the NCHS website; (8) plans, designs, produces, monitors, and administers the NCHS website; (9) develops specifications, sets standards, coordinates, and produces NCHS reports; (10) provides graphic and multimedia design services for all NCHS programs; (11) prioritizes, coordinates, and controls all NCHS electronic publications and print products; (12) establishes, administers, and monitors contracts to provide graphics support and printing services for NCHS; and (13) plans, develops and implements systems for tracking production of NCHS electronic information products, printed publications, and graphic products to ensure timely releases.

Office of Informatics, Governance and Assurance (CAKL1215). For NCHS, the Office of Informatics, Governance and Assurance (1) directs, plans and coordinates information technology frameworks and services for the Center; (2) develops, implements, and monitors the NCHS information technology (IT) strategic planning processes; (3) represents NCHS in developing technology partnerships with other CDC components, communities of practice, work groups, Federal agencies, and non-Federal public and private entities; (4) chairs NCHS information resource governance, serving as a clearinghouse for IT information on issues under consideration by agency IT and data governance oversight; (5) coordinates enterprise architecture, capital planning and business case development with OCIO for IT investments; (6) develops and administers an annual planning process to identify the emerging requirements of NCHS programs for new IT infrastructure products and services; (7) plans, coordinates and conducts computer training activities to enhance the use of information technologies and methodologies by all staff; (8) devises IT practices and procedures in partnership with NCHS programs to gain efficiencies in use of information technology services and infrastructure at NCHS; (9) manages and administers Center-wide contracts for information technology services, provides IT-based technical and security consultations to offices and divisions for the contracting of information management services, including solution development, computing platform adoption and integration of technology innovation; (10) provides solution development consultation for database management, research, design and support services needed by survey, registration and administrative systems, emphasizing projects which are not program specific; (11) develops information technology solutions, including prototypes, to bridge gaps between enterprise systems, business requirements and program solutions; (12) conducts alternative analysis and research of design, development, integration and administration options for cross-cutting systems that satisfy emerging requirements for data access, storage, statistical computing and information dissemination; (13) assesses and guides the adoption of consolidated computing environments for data management, such as Consolidated Statistical Platform (CSP) Confidential Information Protection and Statistical Efficiency Act (CIPSEA) server, AWS cloud services and use of emerging virtualized environments that align with CDC's enterprise architecture standards and guidance; (14) liaises between NCHS and agency Chief Information Security Officer and agency Chief Privacy Officer through NCHS' senior information security officer in coordination/collaboration with NCHS confidentiality officer and other key points of contact; (15) negotiates agency security and privacy requirements and NCHS business and mission needs in exercising cybersecurity oversight, security and privacy compliance, system assessments and authorizations to operate, Privacy Impact Assessments, risk-based decisions, and related approvals and documentation; (16) advises and provides oversight for data and system owners to plan, develop procedures, and test continuity of operations for information systems that support the operations and assets of CDC; (17) evaluates the NCHS IT program to certify adherence to all Federal IT, security and risk management policies and standards; and (18) coordinates and conducts security assessments, risk analysis and incident management to protect the integrity, access, and reliability of assets, including data, systems and services.

Office of the Deputy Director for Programs (CAKL13). The Office of the Deputy Director for Programs (ODDP) serves as the NCHS Principal Deputy Director and is a vital member of the senior staff providing direction, coordination, support, and overall guidance to management and staff for national leadership in health statistics and epidemiological-related programs. For NCHS, ODDP provides leadership, guidance, and coordination for NCHS in areas of (1) science, regulatory compliance, and cross clearance; (2) research and analysis in epidemiology, and in health status, services, promotion, and economics; (3) methodologic and substantive public health research activities based on the nationwide collection of data from vital records; (4) research and use of healthcare services; (5) collection and research on national health interview surveys; (6) methodologic and substantive public health research activities based on the nationwide collection of data from health and nutrition examination surveys; and (7) applied research, survey design and methodology.

Office of the Director (CAKL131). (1) coordinates NCHS' public health efforts to ensure provision of the utmost scientific quality, usefulness and relevance; (2) takes a leadership role in public health data standards through collaborative development of tools, guidelines and partnerships with Federal, private and professional organizations; (3) provides oversight of recommendations for the International Classification of Diseases and related classifications; (4) coordinates U.S. Government activities for the ICD including liaison with WHO through direction of the WHO Collaborating Center for Classification of Diseases of North America; (5) identifies, implements, and coordinates strategies to support various program responsibilities; (6) provides crosscutting direction, expertise and guidance to divisions and offices in support of their program planning and execution efforts; (7) assists with collaboration of divisions and offices, CDC CIOs, Federal organizations, private partners and key partners in supporting program implementation strategies; (8) ensures the use of best practices to collect, analyze, and disseminate health data to enable internal and external partners to make actionable decisions; (9) assists in developing resources and tools to support implementations of various NCHS programmatic responsibilities; (10) provides and interprets policies and procedures affecting the overall completion of functional requirements; (11) provides executive-level leadership and guidance on data analytics and data modernization initiatives for NCHS' large complex surveys; (12) leads research and development efforts to identify, analyze, visualize, and report on emerging public health data; (13) delivers executive-level leadership and guidance on NCHS-wide data resources and information technology management in support of scientific and program information; (14) directs research and development efforts on new information technologies, architectures and systems; and (15) facilitates communication regarding scientific and programmatic actions among divisions and offices.

Office of Science (CAKL1312). For NCHS, the Office of Science (OS) (1) provides scientific leadership and informs and guides staff on scientific matters; (2) ensures the highest quality, most useful, and most relevant science possible is produced; (3) ensures compliance with the various statutes, regulations, and policies governing the conduct of science by the Federal Government including: human subjects research determinations, the protection of human research subjects, the use of Institutional Review Boards (IRBs), the OMB Paperwork Reduction Act, the OMB Information Quality Bulletin, Confidentiality Protection activities, and oversight of compliance with CIPSEA, the Privacy Act, and related policies; (4) develops and maintains the NCHS Clearance Policy and manages and conducts clearance for scientific documents; (5) coordinates and manages document cross-clearance with other parts of CDC including facilitating internal reviews of external documents, coordinating and managing information quality requests concerning NCHS documents, coordinating and managing external peer review for NCHS documents as well as intramural programs; (6) provides oversight for compliance with CDC ethics activities and coordinates involvement in CDC public health ethics activities; (7) coordinates involvement in CDC science awards activities including the Shepard Award, and CDC/Agency for Toxic Substances and Disease Registry (ATSDR) Honor Awards; (8) organizes, sponsors, and conducts select training opportunities in such areas as Human Subjects/Institutional Review Board (IRB), OMB/Paperwork Reduction Act, and eClearance Training for Authors and Reviewers; (9) represents NCHS on various CDC/ATSDR committees, work groups, and task forces, such as the CDC/ATSDR Office of the Chief Science Officer's Excellence in Science Committee; (10) coordinates international statistics health activities; (11) prepares an annual inventory of NCHS publications; (12) ensures that NCHS' confidentiality and privacy policy are consistent with legislative mandates, and that these policies and the Privacy Act are clearly articulated and enforced; (13) coordinates FOIA requests and produces quarterly FOIA reports for NCHS leadership; and (14) directs the Open Data Access policy and assures scientists follow CDC's policies on data release and sharing.

Partner Engagement and Data Dissemination Branch (CAKLCC). The Branch (1) manages the routine operation of the NDI—promoting its use while evaluating and implementing its operational and technical enhancements to improve access and utility for research and public health surveillance; (2) provides international leadership and consultation on vital registration and statistics issues; (3) coordinates with global, regional, and country partners to provide technical assistance to improve civil registration and vital statistics systems in low- and middle-income countries; (4) provides technical assistance and developing and evaluating tools to improve the timeliness and quality of mortality and high quality vital statistics data internationally collected for civil registration purposes while promoting the use of these data for public health surveillance and analysis; (5) develops, coordinates and promotes activities for medical examiners and coroners related to public health and improving the collection and reporting of mortality data for sudden and unexpected deaths; (6) promotes quality and consistency in death investigation, cause and manner of death determination and reporting by medical examiners and coroners; (7) promotes modernization of medical examiner and coroner systems for collection, management, and distribution of medicolegal death investigation data; (8) facilitates information sharing with the medical examiner, coroner, and public health community; (9) manages the vital statistics data request program for the division; and (10) develops and manages data use and data sharing agreements with researchers and external partners.

Statistical Analysis and Surveillance Branch (CAKLCD). The Branch (1) establishes the research agenda for natality, mortality and fetal death statistics in response to public health priorities; (2) converts identified data needs into statistical and research programs to obtain, evaluate, analyze, and disseminate natality, mortality and fetal death statistics data; (3) conducts research to improve data collection of vital records and record linkage methodologies related to natality, mortality and fetal death statistics; (4) designs and performs theoretical, experimental and methodological research that improves the data collection effort, timeliness, availability, quality, use and interpretation of natality, mortality and fetal death statistics data; (5) conducts research into life tables methodology and produces annual and decennial U.S. and State life tables; (6) recommends content of U.S. Standard Certificates; (7) assesses disclosure risk and develops optimal data release strategies to maximize the utility of vital statistics data for policy analysis and decision-making purposes; (8) prepares and publishes descriptive analyses as well as sophisticated multivariate analyses that integrate data across multiple data sets; (9) conducts research and national and state-specific comparability studies of cause of death classification to facilitate the study of mortality trends and classification across International Classifications of Death revisions; (10) provides nosological assistance and training to DVS medical coding staff and to both national and international groups with respect to ICD information for mortality and new revisions of the ICD; (11) develops and promotes training activities related to the collection, production, use and interpretation of natality, mortality, and fetal death statistics; (12) provides leadership to the international community in the use and adoption of automated mortality medical classification systems; (13) develops and implements training programs for cause-of-death coding and provides technical assistance to NCHS, other Federal agencies, state, and local governments, non-government agencies, and international agencies; and (14) provides consultation and advice to Members of Congress, the press, and a broad range of researchers and institutions at the international, national, state, and local levels on natality, mortality, and fetal death statistics and data.

Data Analytics and Production Branch (CAKLDB). The Branch (1) assesses disclosure risk and develops optimal data release strategies that improve policy analysis and decision- making; (2) prepares public-use data files and associated documentation for ambulatory, hospital and long-term care data; (3) prepares descriptive analyses as well as sophisticated multivariate analyses, (and when applicable) with a focus on the integration of data across ambulatory, hospital, and long-term care surveys or data sets; (4) develops a wide variety of reports, tabulations, and data visualizations in multiple formats and arranges for distribution/dissemination through appropriate media/outlets; (5) develops content for outreach materials to encourage participation in the ambulatory, hospital, and long-term care surveys; (6) provides content to web pages for the ambulatory, hospital, and long-term care surveys; (7) provides technical advice and consultation in survey methodology, data collection, quality control, and analysis of ambulatory, hospital, and long-term care data to other health professional personnel and researchers; and (8) reviews Research Data Center proposals that use ambulatory, hospital and long-term care survey data and assists in the preparation for data files for researcher use.

Planning and Operations Branch (CAKLDC). The Branch (1) develops and maintains a national register of ambulatory, hospital care and long-term care providers; (2) assesses information and data needs for ambulatory, hospital care and long-term care statistics, and translates data needs into plans for ambulatory, hospital care and long-term care surveys, inventories, and research activities; (3) prepares specifications for the collection, coding, editing, and imputation of ambulatory, hospital care, and long-term care statistics data; (4) conducts complex research studies relating to ambulatory, hospital care, and long-term care facilities and their utilization; (5) converts identified data needs into research, development, and evaluation activities; and (6) performs theoretical and experimental research that improves the content of the ambulatory, hospital, and long-term care data collection efforts and the timeliness, availability, and quality of ambulatory, hospital care, and long-term care data.

IV. Under Part C, Section C-B, Organization and Functions, the following organizational unit is deleted in its entirety:

• Office of Management and Operations (CPC12)

• Building Operations and Services Staff (CPC122)

• Business Logistics Staff (CPC123)

• Workforce and Career Development Staff (CPC124)

• Office of Planning, Budget, and Legislation (CPC14)

• Office of Information Services (CPC15)

• Information Dissemination Staff (CPC152)

• Information Design and Publishing Staff (CPC153)

• Classifications and Public Health Data Standards Staff (CPC16)

• Office of Information Technology (CPC17)

• Information Technology Solutions and Services Staff (CPC172)

• Mortality Statistics Branch (CPCCC)

• Reproductive Statistics Branch (CPCCD)

• Ambulatory and Hospital Care Branch (CPCDB)

• Long-Term Care Statistics Branch (CPCDD)

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14699 Filed 7-11-23; 8:45 am]

BILLING CODE 4163-18-P